DEPARTMENT OF COMMERCE

International Trade Administration

Purdue University; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Docket Number: 11-026. Applicant: Purdue University, West Lafayette, IN 47907. Instrument: SPSx Moisture Sorption Analyzer. Manufacturer: Projekt Messtechnik, Germany. Intended Use: See notice at 76 FR 52314, August 22, 2011. Comments: None received. Decision: Approved. We know of no instruments of equivalent scientific value to the foreign instrument described below, for such purposes as this is intended to be used, that was being manufactured in the United States at the time of its order. Reasons: This instrument is unique in that it monitors multiple samples at one time, ensuring that conditions do not vary from one experiment to the next.

Dated: September 14, 2011.
Gregory W. Campbell,
Director, Subsidies Enforcement Office, Import Administration.

[FR Doc. 2011-24120 Filed 9-19-11; 8:45 am]

BILLING CODE 3510-DS-P